DEPARTMENT OF COMMERCE

National Oceanic and Atmospheric Administration

[I.D. 031607B]

Western Pacific Fishery Management Council; Public Meeting

AGENCY: National Marine Fisheries Service (NMFS), National Oceanic and Atmospheric Administration (NOAA), Commerce.

ACTION: Notice of public meetings.

SUMMARY: The Western Pacific Fishery Management Council (Council) will hold meetings of its Pelagics Plan Team (PPT), in Honolulu, HI, to discuss fishery issues and develop recommendations for future management.

DATES: The meeting of the PPT will be held on April 17-19, 2007, from 8:30 a.m. to 5 p.m., each day.

ADDRESSES: The meeting will be held at the Council Office Conference Room, Western Pacific Fishery Management Council, 1164 Bishop St., Suite 1400, Honolulu, HI, 96813; telephone: (808) 522-8220.

FOR FURTHER INFORMATION CONTACT: Kitty M. Simonds, Executive Director; telephone: (808) 522-8220.

SUPPLEMENTARY INFORMATION: The PPT will meet discuss the following agenda items:

Tuesday April 17, 2007, 8.30 a.m.

1. Introduction

2. Annual Report review

Review of 2006 Annual Report modules and recommendations

Commonwealth of the Northern Mariana Islands

3. Teleconference link with Pacific Council

A. Status of longline fisheries and their management

a. West Coast + potential for expansion and results from current exploratory permit in EEZ

b. Hawaii and American Samoa fisheries and new fisheries in Micronesia

B. Inter-American Tropical Tuna Commission bigeye tuna (BET) catch limits

a. Current monitoring of BET allocation by NMFS Pacific Islands Fisheries Science Center (PIFSC)

b. Timely division of Eastern Pacific Ocean (EPO) BET quota in event of West Coast longline fishery expansion

C. Protected species management

a. Hawaii and Western Pacific Region (WPR) longline fisheries

b. West Coast longline and drift gillnet fisheries

4. Continuation of review 2006 Annual Report modules and recommendations

ii. American Samoa

iii. Guam

iv. Hawaii

v. International

vi. Recreational

2006 Annual Report region wide recommendations

Wednesday & Thursday, April 18-19, 2007, 8.30 a.m.

5. Hana community Fish Aggregating Device

6. Guam Fishermen's Cooperative longline project

7. Status of American Samoa longline fishery

8. Pelagics Fishery Management Plan (PFMP) and amendments

i. Transition from PFMP to Pelagics Fishery Ecosystem Plan

ii. Status of Amendment 14 (bigeye/yellowfin overfishing)

iii. Guam longline exclusion modification

iv. Framework change to incorporate quotas for tunas

9. Status of interactions between protected species and WPR longline fisheries

i. Hawaii longline fishery

ii. American Samoa longline fishery

10. Evaluation of swordfish longline fishery management

11. Other business

The order in which the agenda items are addressed may change. The PPT will meet as late as necessary to complete scheduled business.

Although non-emergency issues not contained in this agenda may come before the PPT for discussion, those issues may not be the subject of formal action during these meetings. Plan Team action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: March 27, 2007.
Tracey L. Thompson,
Acting Director, Office of Sustainable Fisheries, National Marine Fisheries Service.

[FR Doc. E7-5916 Filed 3-29-07; 8:45 am]

BILLING CODE 3510-22-S